ENVIRONMENTAL PROTECTION AGENCY

[FRL-7405-9]

Notification of the National Advisory Council for Environmental Policy and Technology (NACEPT) Standing Committee on Compliance Assistance Meeting; Open Meeting

AGENCY: Environmental Protection Agency (EPA).

ACTION: Notification of public NACEPT standing committee on compliance assistance meeting on December 3, 2002.

SUMMARY: Pursuant to the Federal Advisory Committee Act, Public Law 92-463, notice is hereby given that the U.S. Environmental Protection Agency (EPA) will hold an open meeting of the NACEPT Standing Committee on Compliance Assistance (Committee) on Tuesday, December 3, 2002 from 8 a.m. to 4 p.m. The meeting will be held at the Adams Mark Hotel at 111 Pecan Street East, San Antonio, Texas 78205. Seating at the meeting will be on a first-come basis and limited time will be provided for public comment. The meeting will focus on the areas of the Compliance Assistance program on which the Committee has been asked to advise the EPA. These are: (1) Strengthening the national compliance assistance network by helping identify opportunities to enhance communication among compliance assistance providers and by promoting collaboration in compliance assistance planning and tool development; (2) developing and testing performance measurement systems to demonstrate the effectiveness and environmental outcomes of compliance assistance; and (3) acting as a sounding board to provide feedback on compliance assistance policies, strategies or other related matters. A formal agenda will be available at the meeting.

SUPPLEMENTARY INFORMATION: NACEPT is a federal advisory committee under the Federal Advisory Committee Act, Public Law 92-463. NACEPT provides advice and recommendations to the EPA Administrator and other EPA officials on a broad range of domestic and international environmental policy issues. NACEPT consists of a representative cross-section of EPA's partners and principal constituents who provide advice and recommendations on policy issues and serve as a sounding board for new strategies. Over the last two years, EPA has undertaken a number of actions to improve our compliance assistance activities. To ensure that the Agency's efforts to improve compliance assistance are implemented in a way that continues to reflect stakeholder needs, NACEPT created a new Standing Committee on Compliance Assistance. This will provide a continuing Federal Advisory Committee forum from which the EPA can continue to receive valuable stakeholder advice and recommendations on compliance assistance activities. For further information concerning the NACEPT Standing Committee on Compliance Assistance, including the upcoming meeting, contact Joanne Berman, Designated Federal Officer (DFO), on (202) 564-7064, or e-mail: berman.joanne@epa.gov.

Inspection of Subcommittee Documents: Documents relating to the above topics will be publicly available at the meeting.

Dated: October 31, 2002.
Frederick F. Stiehl,
Acting Director, Office of Compliance.

[FR Doc. 02-28354 Filed 11-6-02; 8:45 am]

BILLING CODE 6560-50-P